POSTAL SERVICE

39 CFR Part 20

International Mail: Proposed Product Rate and Fee Changes

AGENCY: Postal Service™.

ACTION: Proposed rule.

SUMMARY: In October 2011, the Postal Service filed a notice of mailing services price adjustments with the Postal Regulatory Commission (PRC), effective on January 22, 2012. This proposed rule contains the revisions to Mailing Standards of the United States Postal Service, International Mail Manual (IMM®) that would accompany the new prices.

DATES: We must receive your comments on or before November 23, 2011.

ADDRESSES: Mail or deliver comments to the Manager, Product Classification, U.S. Postal Service®, 475 L'Enfant Plaza, SW., RM 4446, Washington, DC 20260-5015. You may inspect and photocopy all written comments at USPS® Headquarters Library, 475 L'Enfant Plaza, SW., 11th Floor N, Washington, DC by appointment only between the hours of 9 a.m. and 4 p.m., Monday through Friday by calling 1-202-268-2906 in advance. Email comments, containing the name and address of the commenter, may be sent to: MailingStandards@usps.gov, with a subject line of “International Mailing Services Price Change.” Faxed comments are not accepted.

FOR FURTHER INFORMATION CONTACT: Obataiye B. Akinwole at 202-268-2260, or Rick Klutts at 813-877-0372.

SUPPLEMENTARY INFORMATION: Proposed prices are or will be available under Docket Number R2012-3 on the Postal Regulatory Commission's Web site at http://www.prc.gov.

This proposed rule includes: Price changes for First-Class Mail International® and extra services.

First-Class Mail International

This proposed rule would increase prices for single-piece First-Class Mail International letters by approximately 6.6 percent, while the price for postcards is proposed to increase by approximately 7 percent.

International Extra Services

The Postal Service proposes to increase prices for market dominant extra services by approximately 2.2 percent, for the following:

• Certificate of Mailing

• Registered Mail™

• Return Receipt

• Restricted Delivery

• Customs Clearance and Delivery Fee

• International Reply Coupons

• International Business Reply Service

The prices and fees proposed in this notice, if adopted, would become effective concurrent with any domestic prices adopted as a result of the current proceedings before the Postal Regulatory Commission (Docket No. R2012-3). All regulatory changes necessary to implement this proposal are provided below.

Although exempt from the notice and comment requirements of the Administrative Procedure Act [5 U.S.C. 553(b), (c)] regarding proposed rulemaking by 39 U.S.C. 410(a), the Postal Service invites public comment on the following proposed revisions to the Mailing Standards of the United States Postal Service, International Mail Manual (IMM), incorporated by reference in the Code of Federal Regulations. See 39 CFR 20.1.

List of Subjects in 39 CFR Part 20

Foreign relations, International postal services.

Accordingly, 39 CFR part 20 is proposed to be amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of the Mailing Standards of the United States Postal Service, International Mail Manual (IMM) as follows:

* * * * *

Mailing Standards of the United States Postal Service, International Mail Manual (IMM)

* * * * *

Individual Country Listings

* * * * *

First-Class Mail International (240)

[For each country that offers First-Class Mail International service, retain the country's Price Group designation (which appears in the “First-Class Mail International” heading), but remove the three price tables for letters, large envelopes (flats), and packages (small packets), and insert text to read as follows:]

For the prices and maximum weights for postcards, letters, large envelopes (flats), packages (small packets), and postcards, see Notice 123, Price List.

* * * * *

[Remove the entry “Postcards (241.22)” and the price for postcards.]

* * * * *

Extra Services

Certificate of Mailing (313)

[For each country that offers certificate of mailing service, revise the fees to read as follows:]

| Fee
Individual Pieces:
Individual article (PS Form 3817) | $1.15
Firm mailing books (PS Form 3877), per article listed (minimum 3) | 0.44
Duplicate copy of PS Form 3817 or PS Form 3877 (per page) | 1.15
Bulk Quantities:
First 1,000 pieces (or fraction thereof) | 6.70
Each additional 1,000 pieces (or fraction thereof) | 0.80
Duplicate copy of PS Form 3606 | 1.15

* * * * *

International Business Reply Service (382)

[For each country that offers International Business Reply Service, revise the fees to read as follows:]

Fee: Envelopes up to 2 ounces $1.50; Cards $1.00

* * * * *

International Reply Coupons (381)

[For each country that offers international reply coupons, revise the fee to read as follows:]

Fee: $2.20

Registered Mail (330)

[For each country that offers international Registered Mail service, revise the fee to read as follows:]

Fee: $11.75

* * * * *

Restricted Delivery (350)

[For each country that offers international restricted delivery service, revise the fee to read as follows:]

Fee: $4.55

* * * * *

Return Receipt (340)

[For each country that offers international return receipt service, revise the fee to read as follows:]

Fee: $2.35

* * * * *

We will publish an appropriate amendment to 39 CFR part 20 to reflect these changes if our proposal is adopted.

Stanley F. Mires,
Attorney, Legal Policy & Legislative Advice.

[FR Doc. 2011-27360 Filed 10-21-11; 8:45 am]

BILLING CODE 7710-12-P